DEPARTMENT OF COMMERCE

National Oceanic and Atmospheric Administration

50 CFR Part 622

[Docket No. 231127-0277; RTID 0648-XE720]

Fisheries of the Caribbean, Gulf of Mexico, and South Atlantic; 2025 Recreational Accountability Measure and Closure for Snowy Grouper in the South Atlantic

AGENCY: National Marine Fisheries Service (NMFS), National Oceanic and Atmospheric Administration (NOAA), Commerce.

ACTION: Temporary rule; closure.

SUMMARY: NMFS implements an accountability measure (AM) for the recreational harvest of snowy grouper in South Atlantic Federal waters. NMFS reduces the length of the 2025 recreational fishing season to prevent landings from exceeding the recreational annual catch limit (ACL) as they did in 2024. Accordingly, NMFS announces the adjusted closure date in 2025 for the recreational harvest of snowy grouper in South Atlantic Federal waters to protect the snowy grouper resource.

DATES: This temporary rule is effective from June 9 through December 31, 2025.

FOR FURTHER INFORMATION CONTACT: Mary Vara, NMFS Southeast Regional Office, telephone: 727-824-5305, email: mary.vara@noaa.gov.

SUPPLEMENTARY INFORMATION: The snapper-grouper fishery of the South Atlantic includes snowy grouper and is managed under the Fishery Management Plan for the Snapper-Grouper Fishery of the South Atlantic Region (FMP). The FMP was prepared by the South Atlantic Fishery Management Council and NMFS, was approved by the Secretary of Commerce, and is implemented by NMFS through regulations at 50 CFR part 622 under the authority of the Magnuson-Stevens Fishery Conservation and Management Act (Magnuson-Stevens Act).

Regulations at 50 CFR 622.193(b)(2) specify the 2025 recreational ACL for snowy grouper and the recreational AMs. The recreational AM states that if recreational landings of snowy grouper exceed its ACL, then NMFS will reduce the recreational fishing season during the following fishing year to prevent recreational landings from again exceeding the recreational ACL [50 CFR 622.193(b)(2)(ii)]. On January 2, 2024, NMFS implemented the final rule for Amendment 51 to the FMP (88 FR 83860, December 1, 2023). One of the measures implemented by that final rule reduced the recreational ACL to 1,713 fish for 2025. The final rule also revised the recreational AMs for the species. If recreational landings exceed the recreational ACL, NMFS would reduce the length of the recreational fishing season in the following year by the amount necessary to prevent the recreational ACL from being exceeded. Because this condition was met in 2024, NMFS is reducing the length of the 2025 recreational season to prevent the recreational ACL from being exceeded.

The 2025 recreational season for snowy grouper will start on May 1 and normally would continue through June 30. However, data from the NMFS Southeast Fisheries Science Center have informed NMFS' projection that recreational landings will reach the recreational ACL for 2025 by June 9. Therefore, NMFS announces that the recreational season for snowy grouper in South Atlantic Federal waters will be closed beginning on June 9 and continues through December 31, 2025. During the recreational closure, the bag and possession limits for snowy grouper in or from South Atlantic Federal waters are zero. The next recreational fishing season for snowy grouper begins on May 1, 2026.

Classification

NMFS issues this action pursuant to section 305(d) of the Magnuson-Stevens Act. This action is required by 50 CFR 622.193(c)(2)(ii), which was issued pursuant to section 304(b) of the Magnuson-Stevens Act, and is exempt from review under Executive Order 12866.

Pursuant to 5 U.S.C. 553(b)(B), there is good cause to waive prior notice and an opportunity for public comment on this action, as notice and comment are unnecessary and contrary to the public interest. Such procedures are unnecessary because the rule that established the recreational AM for snowy grouper has already been subject to public notice and comment, and all that remains is to notify the public of the end date of the recreational season. Prior notice and opportunity for public comment on this action is contrary to the public interest because of the need to protect the resource of South Atlantic snowy grouper. Additionally, providing as much advance notice to the public of this shortened fishing season and closure allows recreational fishermen, including businesses that operate charter vessels and headboats, to prepare for the change to the recreational season for snowy grouper and to schedule or reschedule their trips.

Authority: 16 U.S.C. 1801 et seq.

Date: March 17, 2025.
Karen H. Abrams,
Acting Director, Office of Sustainable Fisheries, National Marine Fisheries Service.

[FR Doc. 2025-04805 Filed 3-18-25; 4:15 pm]

BILLING CODE 3510-22-P